DEPARTMENT OF TRANSPORTATION

Federal Highway Administration

Notice of Final Federal Agency Action on PIN 8006.72, New York State Route 17 at Exit 122 Within the Town of Wallkill, Orange County, NY

AGENCY: Federal Highway Administration (FHWA), DOT.

ACTION: Notice of limitation on claims for judicial review of actions by FHWA and other federal agencies.

SUMMARY: This notice announces actions taken by the FHWA and other Federal agencies that are final within the meaning of 23 U.S.C. 139(l)(1). The actions relate to a proposed highway project, that involves reconstruction of an interchange and related transportation improvements centered on the New York State Route 17 Exit 122 interchange within the Town of Wallkill, Orange County, in the State of New York. Those actions grant licenses, permits, and approvals for the project.

DATES: By this notice, the FHWA is advising the public of final agency actions subject to 23 U.S.C. 139(l)(1). A claim seeking judicial review of the Federal agency actions on the highway project will be barred unless the claim is filed on or before July 27, 2009. If the Federal law that authorizes judicial review of a claim provides a time period of less than 180 days for filing such claim, then that shorter time period still applies.

FOR FURTHER INFORMATION CONTACT: Jeffrey W. Kolb, P.E., Division Administrator, Federal Highway Administration, New York Division, Leo W. O'Brien Federal Building, 7th Floor, Clinton Avenue and North Pearl Street, Albany, New York 12207, Telephone: (518) 431-4127 or Joan Dupont, P.E., Regional Director, NYSDOT Region 8; 4 Burnett Boulevard, Poughkeepsie, New York 12603, Telephone: (845) 431-5750.

SUPPLEMENTARY INFORMATION: Notice is hereby given that the FHWA, and other Federal agencies have taken final agency actions subject to 23 U.S.C. 139(l)(1) by issuing licenses, permits, and approvals for the following transportation project in the State of New York: New York Route 17 Exit 122 in the Town of Wallkill, Orange County. The project will reconstruct and rehabilitate the existing Exit 122 interchange ramp configuration to provide for new loop and directional ramps connected to relocated sections of East Main Street and Crystal Run Road to improve safety and operation and bring it up to current Federal standards for an Urban Principal Arterial Interstate. Crystal Run Road will be realigned to connect to East Main Street. The East Main Street extension will not be constructed, but the project could accommodate future roadway construction of an East Main Street extension if planned and approved through the local government planning process and built by others. The Crystal Run Road Bridge over NYS Route 17 will be removed and replaced in a location closer to the Wallkill River. Auxiliary ramps will be provided between Exits 122 and 121 to separate weaving maneuvers from the mainline NYS Route 17. The project will also include reasonable measures to minimize environmental impacts, and other landscape and aesthetic enhancements within the project limits. The actions by the Federal agencies, and the laws under which such actions were taken, are described in the Final Environmental Impact Statement (FEIS) for the project, approved on July 21, 2008 and in the FHWA Record of Decision (ROD) issued on December 18, 2008. The FEIS, ROD, and other project records are available by contacting the FHWA or the New York State Department of Transportation at the addresses provided above.

This notice applies to all Federal agency decisions related to the New York Route 17 Exit 122 project as of the issuance date of this notice and all laws under which such actions were taken, include but are not limited to:

1. National Environmental Policy Act [42 U.S.C. 4321-4351].

2. Federal-Aid Highway Act [23 U.S.C. 109 and 23 U.S.C. 128].

3. Clean Air Act [42 U.S.C. 7401-7671(q)].

4. Section 4(f) of the Department of Transportation Act of 1966 [49 U.S.C. 303].

5. Endangered Species Act [16 U.S.C. 1531-1544 and Section 1536].

6. Fish and Wildlife Coordination Act [16 U.S.C. 661-667(d)].

7. Migratory Bird Treaty Act [16 U.S.C. 703-712].

8. Section 106 of the National Historic Preservation Act of 1966, as amended [16 U.S.C. 470(f) et seq.].

9. Civil Rights Act of 1964 [42 U.S.C. 2000(d)-2000(d)(1)].

10. Farmland Protection Policy Act [7 U.S.C. 4201-4209].

11. Wetlands and Water Resources: Clean Water Act (Section 404, Section 401, Section 319) [33 U.S.C. 1251-1377].

12. Land and Water Conservation Fund [16 U.S.C. 4601-4604].

13. Rivers and Harbors Act of 1899 [33 U.S.C. 401-406].

14. Executive Order 11990 Protection of Wetlands.

15. Executive Order 11988 Floodplain Management.

16. Executive Order 12898, Federal Actions to Address Environmental Justice in Minority Populations and Low Income Populations.

(Catalog of Federal Domestic Assistance Program Number 20.205, Highway Planning and Construction. The regulations implementing Executive Order 12372 regarding intergovernmental consultation on Federal programs and activities apply to this program.)

Authority: 23 U.S.C. 139(l)(1).

Issued on: January 6, 2009.
Jeffrey W. Kolb,
Division Administrator, Federal Highway Administration. Albany, New York.

[FR Doc. E9-1534 Filed 1-23-09; 8:45 am]

BILLING CODE 4910-RY-P